DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Certification Requirements for NOAA's Hydrographic Product Quality Assurance Program.

OMB Control Number: 0648-0507.

Form Number(s): NA.

Type of Request: Regular submission (extension of a current information collection).

Number of Respondents: 5.

Average Hours per Response: 12 hours for a complete submission; 1 hour for an inquiry about the program.

Burden Hours: 16.

Needs and Uses: This request is for extension of a currently approved information collection.

The National Oceanic and Atmospheric Administration (NOAA) was mandated to develop and implement a quality assurance program under which the Administrator may certify privately-made hydrographic products. The Administrator fulfilled this mandate by establishing procedures by which hydrographic products are proposed for certification; by which standards and compliance tests are developed, adopted, and applied for those products; and by which certification is awarded or denied. These procedures are now at 15 CFR 996. The application and recordkeeping requirements at 15 CFR 996 are the basis for this collection of information.

Affected Public: Business or other for-profit organizations.

Frequency: On occasion.

Respondent's Obligation: Required to obtain or retain a benefit.

This information collection request may be viewed at reginfo.gov. Follow the instructions to view Department of Commerce collections currently under review by OMB.

Written comments and recommendations for the proposed information collection should be sent within 30 days of publication of this notice to OIRA_Submission@omb.eop.gov or faxed to (202) 395-5806.

Dated: July 25, 2014.
Gwellnar Banks,
Management Analyst, Office of the Chief Information Officer.

[FR Doc. 2014-17947 Filed 7-29-14; 8:45 am]

BILLING CODE 3510-22-P